DEPARTMENT OF HOMELAND SECURITY

Coast Guard

33 CFR Part 117

[Docket No. USCG-2017-0497]

Drawbridge Operation Regulation; Atlantic Intracoastal Waterway (AIWW), Wrightsville Beach, NC and Northeast Cape Fear River, Wilmington, NC

AGENCY: Coast Guard, DHS.

ACTION: Notice of deviation from drawbridge regulation.

SUMMARY: The Coast Guard has issued a temporary deviation from the operating schedules that govern the S.R. 74 (Wrightsville Beach) Bridge across the Atlantic Intracoastal Waterway (AIWW), mile 283.1, at Wrightsville Beach, NC, and the Isabel S. Holmes Bridge across the Northeast Cape Fear River, mile 1.0, at Wilmington, NC. The deviation is necessary to accommodate the free movement of pedestrians and vehicles during the 2017 PPD IRONMAN North Carolina “Beach2Battleship” Triathlon. This deviation allows these bridges to remain in their closed-to-navigation position.

DATES: The deviation is effective from 6:30 a.m. to 3 p.m. on October 21, 2017.

ADDRESSES: The docket for this deviation, [USCG-2017-0497], is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone 757-398-6587, email Mickey.D.Sanders2@uscg.mil.

SUPPLEMENTARY INFORMATION: The event director, PPD Ironman North Carolina, with approval from the North Carolina Department of Transportation, who owns and operates the S.R. 74 (Wrightsville Beach) and the Isabel S. Holmes Bridges has requested a temporary deviation from the current operating regulations to accommodate the free movement of pedestrians and vehicles during the 2017 PPD IRONMAN North Carolina “Beach2Battleship” Triathlon. The bridges are double bascule bridges and have vertical clearances in the closed position of 20 feet and 40 feet, respectively, above mean high water.

The current operating schedule is set out in 33 CFR 117.821(a)(4) and 33 CFR 117.829(a), respectively. Under this temporary deviation, the S.R. 74 (Wrightsville Beach) Bridge will be maintained in the closed-to-navigation position from 6:30 a.m. to 10 a.m. on October 21, 2017, and the Isabel S. Holmes Bridge will be maintained in the closed-to-navigation position from 7:30 a.m. to 3 p.m. on October 21, 2017. The Atlantic Intracoastal Waterway is used by a variety of vessels including, small commercial fishing vessels and recreational vessels. The Northeast Cape Fear River is used by a variety of vessels including, small commercial fishing vessels, recreational vessels, and tug and barge traffic. The Coast Guard has carefully considered the nature and volume of vessel traffic on the waterway in publishing this temporary deviation.

Vessels able to pass through these bridges in their closed positions may do so at anytime. These bridges will be able to open for emergencies and there are no immediate alternative routes for vessels unable to pass through the bridges in their closed positions. The Coast Guard will also inform the users of the waterways through our Local and Broadcast Notices to Mariners of the change in operating schedules for these bridges so that vessel operators can arrange their transits to minimize any impact caused by the temporary deviation.

In accordance with 33 CFR 117.35(e), these drawbridges must return to their regular operating schedules immediately at the end of the effective periods of this temporary deviation. This deviation from the operating regulations is authorized under 33 CFR 117.35.

Dated: June 5, 2017.
Hal R. Pitts,
Bridge Program Manager, Fifth Coast Guard District.

[FR Doc. 2017-12012 Filed 6-8-17; 8:45 am]

BILLING CODE 9110-04-P